DEPARTMENT OF COMMERCE

Foreign-Trade Zones Board

[B-66-2016]

Foreign-Trade Zone (FTZ) 44H—East Hanover, New Jersey; Notification of Proposed Production Activity; Givaudan Flavors Corporation (Flavor Products); East Hanover, New Jersey

Givaudan Flavors Corporation (Givaudan) submitted a notification of proposed production activity to the FTZ Board for its facility in East Hanover, New Jersey within Subzone 44H. The notification conforming to the requirements of the regulations of the FTZ Board (15 CFR 400.22) was received on September 20, 2016.

The Givaudan facility is used for the production of flavor compounds. Givaudan's notification seeks to add additional finished products using the components previously authorized for the facility. Pursuant to 15 CFR 400.14(b), additional FTZ authority would be limited to the specific finished products described in the submitted notification (as described below) and subsequently authorized by the FTZ Board.

Production under FTZ procedures could exempt Givaudan from customs duty payments on the foreign status components used in export production. On its domestic sales, for the foreign status components in the existing scope of authority, Givaudan would be able to choose the duty rates during customs entry procedures that apply to: Cocoa food preparations; dairy food preparations; coffee food preparations; seasonings; sauces; other food preparations with dairy; confectionary without sugar; other food preparations; food articles containing sugar; other cyclanes, cyclenes and cycloterpenes; other cyclic hydrocarbons; acyclic terpene alcohols; butanoic acids; pentanoic acids their salts and esters; aqueous distillates and aqueous solutions of essential oils; and, terpenic by-products of the deterpenation of essential oils (duty rate ranges from free to 70.4 cents/kg +8.50%). Customs duties also could possibly be deferred or reduced on foreign status production equipment.

Public comment is invited from interested parties. Submissions shall be addressed to the FTZ Board's Executive Secretary at the address below. The closing period for their receipt is November 16, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: September 30, 2016.
Elizabeth Whiteman,
Acting Executive Secretary.

[FR Doc. 2016-24355 Filed 10-6-16; 8:45 am]

BILLING CODE 3510-DS-P